NATIONAL AERONAUTICS AND SPACE ADMINISTRATION

48 CFR Part 1804

RIN 2700-AC33

Contract Numbering

AGENCY: National Aeronautics and Space Administration.

ACTION: Final rule.

SUMMARY: This final rule revises the NASA FAR Supplement (NFS) by making administrative changes to the contract identification numbering scheme used by NASA. This change is necessary for implementation of NASA's Integrated Financial Management System.

EFFECTIVE DATE: October 4, 2002.

FOR FURTHER INFORMATION CONTACT: Celeste Dalton, NASA, Office of Procurement, Contract Management Division (Code HK); (202) 358-1645; e-mail: cdalton@hq.nasa.gov.

SUPPLEMENTARY INFORMATION:

A. Background

NASA is in the process of implementing a new Agency-wide Integrated Financial Management System. This implementation requires a minor change to the number of digits and sequence of characters used in the contract identification number. This final rule makes these administrative changes to the contract numbering scheme used for NASA contracts.

B. Regulatory Flexibility Act

This final rule does not constitute a significant revision within the meaning of FAR 1.501 and Public Law 98-577, and publication for public comment is not required. However, NASA will consider comments from small entities concerning the affected NFS Part 1804 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1804

Government Procurement.

Tom Luedtke,
Assistant Administrator for Procurement.

Accordingly, 48 CFR Part 1804 is amended as follows:

1. The authority citation for 48 CFR Part 1804 continues to read as follows:

Authority: 42 U.S.C. 2473(c)(1).

PART 1804—ADMINISTRATIVE MATTERS

1804.7101 [Amended]

2. Amend section 1804.7101 in paragraph (b) by removing the number “11” and adding “10” in its place.

1804.7102 [Amended]

3. Amend section 1804.7102 by—

a. In the table of paragraph (a) under the column CONTRACT PREFIX—

(i) Removing “NAS 2” and adding “NAS2-” in its place;

(ii) Removing “NAS 4” and adding “NAS4-” in its place;

(iii) Removing “NAS 3” and adding “NAS3-” in its place;

(iv) Removing “NAS 5” and adding “NAS5-” in its place;

(v) Adding a hyphen immediately after “NASW”;

(vi) Removing “NAS 9” and adding “NAS9-” in its place;

(vii) Removing “NAS 1” and adding “NAS1-” in its place;

(viii) Removing “NAS 8” and adding “NAS8-” in its place;

(ix) Removing “NAS 7” and adding “NAS7-” in its place; and

(x) Removing “NAS 13” and adding “NAS13” in its place;

b. In paragraph (c) removing “DEN 8” and adding “DEN8-” in its place; and

c. In paragraph (d) removing “NCA 8” and adding “NCA8-” in its place.

1804.7103 [Amended]

4. Amend section 1804.7103 in paragraph (a) by removing “NAS 2 97001 and NAS 2 97002” and adding “NAS2-97001 and NAS2-97002” in its place.

[FR Doc. 02-25183 Filed 10-3-02; 8:45 am]

BILLING CODE 7510-01-P